ENVIRONMENTAL PROTECTION AGENCY

40 CFR Part 52

[EPA-R03-OAR-2015-0241; FRL-9930-35-Region 3]

Approval and Promulgation of Air Quality Implementation Plans; Maryland; Low Emissions Vehicle Program Revisions

AGENCY: Environmental Protection Agency (EPA).

ACTION: Direct final rule.

SUMMARY: The Environmental Protection Agency (EPA) is taking direct final action to approve two revisions to the Maryland State Implementation Plan (SIP). The Clean Air Act (CAA) provides authority allowing California to adopt its own motor vehicle emissions standards for newly manufactured vehicles, in lieu of federal vehicle standards. The CAA also allows other states to adopt California's vehicle standards, as long as they are identical to California's standards. Maryland's recent SIP submittals serve to amend Maryland's Clean Car Program to incorporate updates that California has made to its Low Emission Vehicle (LEV) program rules. Maryland adopted California's emission standards applicable to newly manufactured light and medium-duty vehicles in 2007, and EPA approved Maryland's Clean Car Program in prior rulemakings. However, since then California revised its LEV program regulations on several occasions, and Maryland subsequently amended its own rules to be consistent with those of California. Since the Clean Car Program is part of the SIP, Maryland then submits these amendments as a SIP revision. Maryland submitted such SIP revision requests in July 2014 and again in April 2015 to update its SIP to be consistent with California's latest LEV program rules. EPA's action to approve Maryland's most recent Clean Car Program SIP revisions is being taken under the CAA.

DATES: This rule is effective on September 14, 2015 without further notice, unless EPA receives adverse written comment by August 13, 2015. If EPA receives such comments, it will publish a timely withdrawal of the direct final rule in the Federal Register and inform the public that the rule will not take effect.

ADDRESSES: Submit your comments, identified by Docket ID Number EPA-R03-OAR-2015-0241 by one of the following methods:

A. www.regulations.gov. Follow the on-line instructions for submitting comments.

B. Email: Fernandez.cristina@epa.gov.

C. Mail: EPA-R03-OAR-2015-0241, Cristina Fernandez, Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2015-0241. EPA's policy is that all comments received will be included in the public docket without change, and may be made available online at www.regulations.gov, including any personal information provided, unless the comment includes information claimed to be Confidential Business Information (CBI) or other information whose disclosure is restricted by statute. Do not submit information that you consider to be CBI, or otherwise protected, through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy during normal business hours at the Air Protection Division, U.S. Environmental Protection Agency, Region III, 1650 Arch Street, Philadelphia, Pennsylvania 19103. Copies of the State submittal are available at the Maryland Department of the Environment, 1800 Washington Boulevard, Suite 705, Baltimore, Maryland 21230.

FOR FURTHER INFORMATION CONTACT: Brian Rehn, (215) 814-2176, or by email at rehn.brian@epa.gov.

SUPPLEMENTARY INFORMATION: Maryland originally adopted a Low Emissions Vehicle Program in 2007 under Regulation .02 of COMAR 26.11.34 Low Emission Vehicles. Since then, Maryland updated its program rule on several occasions (in 2009 and 2011), to incorporate changes made by California to its own LEV program rule. Maryland originally submitted its Clean Car Program to EPA for inclusion in the SIP in December 2007 (Revision #07-16), with subsequent revisions in November 2010 (Revision #10-08) and again in June 2011 (Revision #11-05), to reflect Maryland regulatory updates made in 2009 and 2011. EPA approved Maryland's original Clean Car SIP submittal (and the November 2010 and June 2011 revisions) in a rulemaking action published in the Federal Register on June 11, 2013 (78 FR 34911). Maryland again submitted a revised SIP submittal in August 2013 (Revision #13-02), to incorporate regulatory changes made in 2012 to its Clean Car Program rule. EPA approved that SIP revision in a final rulemaking action published in the Federal Register on July 9, 2013 (79 FR 38787).

On July 28, 2014, Maryland submitted a revision for the SIP (Revision #14-01) to again amend its Clean Car Program SIP to include regulatory updates made in 2014 to ensure consistency with California's LEV rules. Maryland later submitted another revision for the SIP (Revision #15-02) on April 13, 2015 to adopt additional regulatory amendments made in 2015. It is these two most recent SIP revisions that are the subject of this rulemaking.

Table of Contents

I. Background

A. Maryland's Air Quality With Respect to the Federal National Ambient Air Quality Standard (NAAQS) for Ozone

B. Federal Vehicle Emission Standards

C. California's Low Emission Vehicle Standards

D. Maryland's Low Emissions Vehicle Program

II. Summary of SIP Revisions

III. Final Action

IV. Incorporation by Reference

V. Statutory and Executive Order Reviews

I. Background

A. Maryland's Air Quality With Respect to the Federal National Ambient Air Quality Standard (NAAQS) for Ozone

The CAA, which was last amended in 1990, requires EPA to set NAAQS for pollutants considered harmful to public health and the environment. EPA establishes NAAQS for six principal pollutants, or “criteria” pollutants, which include: ozone, carbon monoxide (CO), lead, nitrogen dioxide, fine particulate matter (PM), and sulfur dioxide. The CAA establishes two types of NAAQS. Primary standards provide public health protection, including protecting the health of “sensitive” populations such as asthmatics, children, and the elderly. Secondary standards protect public welfare, including protection against decreased visibility and damage to animals, crops, vegetation, and buildings. The CAA also requires EPA to periodically review the standards to ensure that they provide adequate health and environmental protection, and to update those standards as necessary.

Ozone is formed in the atmosphere by photochemical reactions between ozone precursor pollutants, including volatile organic compounds (VOCs) and nitrogen oxides (NOX) in the presence of sunlight. In order to reduce ozone concentrations in the ambient air, the CAA directs areas designated as nonattainment to apply controls on VOC and NOX emission sources to reduce the formation of ozone.

Although EPA has revised the ozone NAAQS several times since the CAA was reauthorized in 1990, Maryland has historically had three areas designated as nonattainment under each successive ozone NAAQS. These include portions of the Baltimore metropolitan area, the Maryland portion of the Washington, DC metropolitan area, and the Maryland portion of the Philadelphia metropolitan area. Most recently, EPA revised the 8-hour ozone NAAQS from 0.08 parts per million (ppm) to 0.075 ppm on March 27, 2008 (73 FR 16436). On May 21, 2012 (77 FR 30088), EPA finalized designations for this 2008 8-hour ozone NAAQS, including as nonattainment the same three Maryland areas.

B. Federal Vehicle Emission Standards

Vehicles sold in the United States are required by the CAA to be certified to meet either Federal motor vehicle emission standards or California emission standards. States other than California are forbidden from adopting their own standards, but may elect to adopt California emission standards for which EPA has granted a waiver of preemption. Specifically, section 209 of the CAA prohibits states from adopting or enforcing standards relating to the control of emissions from new motor vehicles (or new vehicle engines), however, EPA may waive that prohibition for any state that adopted its own standards prior to March 30, 1966. As California was the only state to do so, California has authority to adopt its own vehicle emissions standards. California must demonstrate to EPA that its newly adopted standards will be “. . . in the aggregate, at least as protective of public health and welfare as applicable Federal standards,” after which time EPA may then grant a waiver of preemption from Federal standards for California's standards.

Section 177 of the CAA authorizes other states to adopt California's standards in lieu of Federal vehicle standards, provided the state does so with at least two model years lead time prior to the effective date of its program and EPA has issued a waiver of preemption to California for such standards.

EPA has adopted several iterations, or “tiers,” of federal emissions standards since the CAA was reauthorized in 1990. When Maryland first adopted its Clean Car Program in 2007, the federal standards in effect were Tier 2 standards that were adopted by EPA on February 10, 2000 (65 FR 6698) and were implemented beginning with 2004 model year federally certified vehicles. These Federal Tier 2 standards set tailpipe emissions standards for passenger vehicles and light duty trucks and also limited gasoline sulfur levels. EPA later finalized Tier 3 Federal vehicle and fuel standards on April 28, 2014 (79 FR 23414). The Federal Tier 3 program set more stringent Federal vehicle emissions standards and further limited allowable sulfur content of gasoline for new cars, beginning in 2017. EPA attempted to closely harmonize the Tier 3 standards with California's most current Low Emissions Vehicle Program.

On May 7, 2010 (75 FR 25324), EPA and the U.S. Department of Transportation's National Highway Traffic Safety Administration (NHTSA) jointly established a national program consisting of new standards for light-duty motor vehicles to reduce greenhouse gases (GHG) emissions and to improve fuel economy. This program affected new passenger cars, light trucks, and medium-duty passenger vehicles sold in model years 2012 through 2016. On October 15, 2012 (77 FR 62624), EPA and NHTSA issued another joint rule to further tighten GHG emissions standards for model years 2017 through 2025. The Federal GHG standards were harmonized with similar GHG standards set by California, to ensure that automobile manufacturers would face a single set of national emissions standards to meet both Federal and California emissions requirements.

C. California's Low Emission Vehicle Standards

In 1990, California's Air Resources Board (CARB) adopted its first generation of LEV standards applicable to light and medium duty vehicles. California's LEV program standards were phased-in beginning in model year 1994 through model year 2003. In 1999, California adopted a second generation of LEV standards, known as LEV II, which were phased-in beginning model year 2004 through model year 2010. EPA granted a Federal preemption waiver for CA LEV II program on April 22, 2003 (68 FR 19811).

California's LEV II program reduces emissions in a similar manner to the Federal Tier 2 program by use of declining fleet average non-methane organic gas (NMOG) emission standards, applicable to each vehicle manufacturer each year. Separate fleet average standards are not established for NOX, CO, PM, or formaldehyde as these emissions are controlled as a co-benefit of the NMOG fleet average (fleet average values for these pollutants are set by the certification standards for each set of California prescribed certification standards.) These allowable sets of standards range from LEV standards (the least stringent standard set) to Zero Emission Vehicle (ZEV) standards (the most stringent standard set). California's LEV II program establishes various other standards: The Ultra-Low Emission Vehicles (ULEV), Super-Ultra Low Emission Vehicles (SULEV), Partial Zero Emission Vehicles (PZEV), and Advanced Technology-Partial Zero Emission Vehicles (AT-PZEV). Each manufacturer may comply by selling a mix of vehicles meeting any of these standards, as long as their sales-weighted, overall average of the various standard sets meets the overall fleet average and ZEV requirements.

In January 2012, California approved a new emissions-control program for model years 2017 through 2025, called the Advanced Clean Cars Program, or the LEV III program. The program combines the control of smog, soot, and GHG and requirements for greater numbers of ZEV vehicles into a single package of standards. The regulations apply to light duty vehicles, light duty trucks, and medium duty passenger vehicles. Under California's Advanced Clean Cars Program, manufacturers can certify vehicles to the standards before model year 2015. Beginning with model year 2020, all vehicles must be certified to LEV III standards. The ZEV amendments add flexibility to California's existing ZEV program for 2017 and earlier model years, and establish new sales and technology requirements starting with the 2018 model year. The LEV III amendments establish more stringent criteria and GHG emission standards starting with the 2015 and 2017 model years, respectively. The California GHG standards are almost identical in stringency and structure to the Federal GHG standards for model years from 2017 to 2025. Additionally, on December 2012, California adopted a “deemed to comply” regulation that enables manufacturers to show compliance with California GHG standards by demonstrating compliance with Federal GHG standards. On June 9, 2013 (78 FR 2112), EPA granted a Federal preemption waiver for California's Advanced Clean Cars Program. California's LEV III program rules are codified in Title 13 of the California Code of Regulations (CCR), under Division 3.

D. Maryland's Low Emissions Vehicle Program

Maryland's legislature adopted and the Governor signed into law the Maryland Clean Cars Act of 2007, establishing legal authority compelling Maryland to adopt California's LEV standards. Maryland adopted its “Low Emission Vehicle Program,” codified at COMAR 26.11.34 in 2007. Since then, Maryland has revised its program rules a number of times to ensure consistency with California's LEV program. As discussed in the Supplemental Information section, Maryland submitted revisions in 2009 and 2011, which EPA approved (along with the original 2007 Clean Car revision) on June 11, 2013 (78 FR 34911). Since then, Maryland amended its program in 2013 and submitted another SIP revision to EPA in August 2013, which EPA approved on July 9, 2014 (79 FR 38787).

The Maryland Clean Car Program has two objectives. The first is to reduce emissions of NOX and VOCs, as precursors of ground level ozone, from new motor vehicles sold in Maryland. The second objective of the program is to reduce GHG emissions from motor vehicles. The program requires 2011 and newer model year passenger cars, light trucks, and medium-duty vehicles having a gross vehicle weight rating (GVWR) of 14,000 pounds or less that are sold as new cars or transferred in Maryland to meet the applicable California emissions standards. For purposes of the Clean Car Program, transfer means to sell, import, deliver, purchase, lease, rent, acquire, or receive a motor vehicle for titling or registration in Maryland.

II. Summary of SIP Revisions

On July 28, 2014, Maryland submitted a formal SIP Revision #14-01 containing Maryland's updated Clean Car regulations to reflect changes made to adopt California's LEV III Program. This SIP submittal consists of updates to make Maryland's Clean Car Program consistent with California's program. Specifically, California amended its LEV III program rule to allow as a compliance option the recent Federal GHG standards for model years 2017 to 2025. Since California's LEV III program addresses GHG pollutants, in addition to criteria pollutants that are precursors to ozone pollution, Maryland incorporated by reference this compliance alternative for California's LEV III program to its own Clean Car Program rule.

On April 30, 2015, Maryland submitted another revision to its SIP to update the Clean Car Program rules. This latest change relates to the ZEV requirements of California's rules, including adjustments to optional compliance path (OCP) for manufacturers related to the elimination of certain credits in qualifying for the OCP and pooling of credits across model years. Another ZEV-related provision establishes a minimum amount of ZEV credits to be used each year, specifically a limit to use of non-ZEV credits to satisfy ZEV requirements. Further, California amended the definition for fast refueling for purposes of determining the ZEV type to limit credits to only technologies that have actually been demonstrated in practice. Maryland incorporated by reference in its Clean Car Program these latest changes to California's LEV III program.

These two most recent Maryland SIP submittals are the subject of this rulemaking action. Maryland adopted California's updates to portions of CCR Title 13, Division 3 by amending COMAR 26.11.34.02, relating to incorporation by reference of California's LEV standards. The July 28, 2014 and April 13, 2015 SIP submittals include Maryland's adopted regulatory amendments to the Clean Car Program rule (with the exception of CCR, Title 13, Division 3, Article 5, Section 2030 “Liquefied Petroleum Gas or Natural Gas Retrofit Systems,” which Maryland requested EPA to exclude from the SIP). The April 13, 2015 SIP submittal will replace in its entirety the existing regulation COMAR 26.11.34.02 as approved in the SIP on July 9, 2014 with the revised version of COMAR 26.11.34.02 effective February 16, 2015. See 79 FR 38787. A list of California's regulations being incorporated by reference is included as part of Maryland's notice of proposed action dated December 1, 2014, which is included in the State submittal and available online at www.regulations.gov, Docket ID No. EPA-R03-OAR-2015-0241. These revisions to Maryland's Clean Car Program, as approved in the Maryland SIP, are important to ensure consistency with California's LEV program. This will ensure that Maryland's Clean Vehicle Program complies with the requirements for adoption of another state's vehicle standards in lieu of Federal vehicle standards, per section 177 of the CAA.

III. Final Action

EPA is approving Maryland's July 28, 2014 and April 13, 2015 SIP submittals. These revisions amend the prior approved Maryland Clean Vehicle Program, specifically with respect to Maryland's updated incorporation by reference (at COMAR 26.11.34.02) of California's LEV program rules (at Title 13, CCR, Division 3, with the exception of CCR, Title 13, Division 3, Article 5, Section 2030). Maryland's SIP revisions serve to ensure consistency of Maryland's Clean Vehicle Program with California's LEV III program, satisfying Federal requirements for state adoption of vehicle emission standards under section 177 of the CAA. EPA is publishing this rule without prior proposal because EPA views this as a noncontroversial amendment and anticipates no adverse comment. However, in the “Proposed Rules” section of this Federal Register, EPA is publishing a separate document that will serve as the proposal to approve the SIP revision if adverse comments are filed. This rule will be effective on September 14, 2015 without further notice unless EPA receives adverse comment by August 13, 2015. If EPA receives adverse comment, EPA will publish a timely withdrawal in the Federal Register informing the public that the rule will not take effect. EPA will address all public comments in a subsequent final rule based on the proposed rule. EPA will not institute a second comment period on this action. Any parties interested in commenting must do so at this time.

IV. Incorporation by Reference

In this rulemaking action, EPA is finalizing regulatory text that includes incorporation by reference. In accordance with requirements of 1 CFR 51.5, the EPA is finalizing the incorporation by reference of Maryland's Clean Vehicle Program rules at COMAR 26.11.34.02, as adopted on January 20, 2015 and effective on February 16, 2015. EPA has made, and will continue to make, these documents generally available electronically through www.regulations.gov and in hard copy at the appropriate EPA office (see the ADDRESSES section of this preamble for more information).

V. Statutory and Executive Order Reviews

A. General Requirements

Under the CAA, the Administrator is required to approve SIP submissions that comply with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by September 14, 2015. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of this Federal Register, rather than file an immediate petition for judicial review of this direct final rule, so that EPA can withdraw this direct final rule and address the comment in the proposed rulemaking action. This action approving revisions to the Maryland Clean Car Program may not be challenged later in proceedings to enforce its requirements. (See section 307(b)(2).)

List of Subjects in 40 CFR Part 52

Environmental protection, Air pollution control, Carbon monoxide, Incorporation by reference, Intergovernmental relations, Nitrogen dioxide, Ozone, Reporting and recordkeeping requirements, Volatile organic compounds.

Dated: June 26, 2015.
William C. Early,
Acting Regional Administrator, Region III.

40 CFR part 52 is amended as follows:

PART 52—APPROVAL AND PROMULGATION OF IMPLEMENTATION PLANS

1. The authority citation for part 52 continues to read as follows:

Authority: 42 U.S.C. 7401 et seq.

Subpart V—Maryland

2. In § 52.1070, the table in paragraph (c) is amended by revising the entry for COMAR 26.11.34.02 to read as follows:

§ 52.1070 Identification of plan.

* * * * *

(c) * * *

EPA—Approved Regulations, Technical Memoranda, and Statutes in the Maryland SIP
Code of Maryland Administrative Regulations (COMAR) citation | Title/subject | State effective date | EPA approval date | Additional explanation/ citation at 40 CFR 52.1100
* * * * * * *
26.11.34 | Low Emissions Vehicle Program
* * * * * * *
26.11.34.02 (except .02B(20)) | Incorporation by Reference | 02/16/15 | 07/14/15 [Insert Federal Register citation] | Update to incorporate by reference California's Advanced Clean Car Program rules, with the exception of Title 13, California Code of Regulations, Division 3, Chapter 2, Article 5, Section 2030.
* * * * * * *

* * * * *

[FR Doc. 2015-17060 Filed 7-13-15; 8:45 am]

BILLING CODE 6560-50-P